DEPARTMENT OF AGRICULTURE

Food and Nutrition Service

Agency Information Collection Activities: Comment Request—Supplemental Nutrition Assistance Program—Trafficking Controls and Fraud Investigations

AGENCY: Food and Nutrition Service (FNS), USDA.

ACTION: Notice.

SUMMARY: In accordance with the Paperwork Reduction Act of 1995, this notice invites the general public and other public agencies to comment on this proposed information collection. This is a revision of a currently approved collection codified in Food and Nutrition Service (FNS) regulations.

DATES: Written comments must be received on or before October 24, 2022.

ADDRESSES: Comments may be sent to: Maribelle Balbes, Chief, State Administration Branch, Food and Nutrition Service, U.S. Department of Agriculture, 1320 Braddock Place Alexandria, VA 22314, 5th Floor. Comments may also be submitted via email to SNAPSAB@fns.usda.gov, or through the federal eRulemaking Portal. Go to http://www.regulations.gov, and follow the online instructions for submitting comments electronically. All written comments will be open for public inspection at the office of the Food and Nutrition Service during regular business hours (8:30 a.m. to 5 p.m. Monday through Friday) at 1320 Braddock Place, Alexandria, Virginia 22314. All responses to this notice will be summarized and included in the request for Office of Management and Budget approval. All comments will be a matter of public record.

FOR FURTHER INFORMATION CONTACT: Requests for additional information or copies of this information collection should be directed to Evan Sieradzki 703-605-3212.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: Trafficking Controls and Fraud Investigations.

OMB Number: 0584-0587.

Expiration Date: 02/28/2023.

Type of Request: Revision of a currently approved collection.

Abstract: FNS regulations at 7 CFR 274.6(b)(5) and (b)(6) requires State Agencies to issue warning notices to withhold replacement cards or a notice for excessive replacement cards.

Withhold Replacement Card Warning Notice.

FNS regulations at 7 CFR 274.6(b)(5) and (b)(5)(i) State option to withhold replacement card requires a State agency to require an individual member of a household to contact the State agency to provide an explanation in cases where the number of requests for card replacements is deemed excessive. The State agency is required to notify the household in writing when it has reached the threshold, indicated that the next request for card replacement will require contact with the State agency to provide an explanation for the requests, before the replacement card will be issued. The State agency is also required to notify the household in writing once the threshold has been exceeded that the State agency is withholding the card until contact is made.

Excessive Replacement Card Notice

FNS regulations at 7 CFR 274.6(b)(6) and (b)(6)(i) Excessive Replacement Card Notice requires the State agency to monitor all client requests for EBT card replacements and send a notice, upon the fourth request in a 12-month period, alerting the household that their account is being monitored for potential, suspicious activity. The State agency is exempt from sending the excessive replacement card notice if they have chosen to service the option to withhold the replacement card until contact is made with the State agency per 7 CFR 274.6(b)(5).

FNS is currently aware out of the 53 State agencies, six State agencies have opted to follow our regulations at 7 CFR 274.6(b)(5) to withhold replacement cards. The remaining 47 State agencies follow our regulations at 7 CFR 274.6(b)(6) for the Excessive Replacement Card Notice.

Affected Public: Individuals/Households participating in SNAP and State Government Agencies that administer SNAP.

Estimated Number of Respondents: 372,338 (372,285 individuals/households + 53 State agencies). Card replacement data, adjusted for changes in SNAP caseload, suggest that approximately 372,285 households request four replacement EBT cards within a 12-month period annually. These households, plus the 53 State agencies that must send the notices required by 7 CFR 274.6(b) make up the respondents.

Estimated Number of Responses per Respondent: There is an average estimated 2.11 responses (7,413.13 per State agency + 1.06 per individual/household) for each respondent. See the table below for estimated responses for each type of respondent.

Estimated Total Annual Responses: 785,791 (392,896 individuals/households total annual response + 392,896 States agencies total annual response). See the table below for estimated responses for each type of respondent. Of the 372,285 households requesting four replacement EBT cards, approximately 41,222 are estimated to be in the six States where the agencies have opted to follow our regulations at 7 CFR 274.6(b)(5) to withhold replacement cards. FNS estimates that half of all recipients who receive a notice upon issuance of their fourth card will request a fifth card for approximately 20,611 households receiving the replacement card withheld notice.

Estimated Time per Response: FNS estimates that it will take State personnel approximately 2 minutes (.0334 hours) to generate and mail each required notice to the client, to comply with 7 CFR 274.6; and that it will take SNAP recipients approximately 2 minutes (.0334 hours) to read each notice they receive and 28 minutes (.4676 hours) to make contact with the State agency when required for a total of 30 minutes (.5 hours) for this activity. There is an average estimated time of 2.74 minutes (0.0456 hours) for each response (0.0334 for State agencies + 0.058 for individuals/households).

Estimated Total Annual Burden on Respondents: 35,863 hours (22,739.75 burden hours for individuals/households and 13,122.72 for State agencies). The currently approved annual burden is 22,989 hours. The revision reflects the increase in the number of households participating in SNAP therefore, we have more excessive replacement EBT card requests and notices than previously reported.

There is no third party reporting associated with this information collection request.

See the table below for estimated total reporting annual burden for each type of respondent.

CFR | Title | Number of respondents | Annual reports | Total annual responses | Burden hours per response | Total burden hours
State Agencies
274.6(b)(5) | Withhold Replacement Card Warning Notice | 6 | 6,870.29 | 41,221.76 | 0.0334 | 1,376.81
274.6(b)(5) | Replacement Card Withheld Notice | 6 | 3,435.15 | 20,610.88 | 0.0334 | 688.40
274.6(b)(6) | Excessive Replacement Card Notice | 47 | 7,043.90 | 331,063.09 | 0.0334 | 11,057.51
Subtotal |  | 53 | 7413.13 | 392,895.73 | 0.0334 | 13,122.72
Participating Households
274.6(b)(5) | Reading Withhold Replacement Card Warning Notice | 41,221.76 | 1 | 41,221.76 | 0.0334 | 1,376.81
274.6(b)(5) | Reading Replacement Card Withheld Notice and making contact with State agency | 20,610.88 | 1 | 20,610.88 | 0.50 | 10,305.44
274.6(b)(6) | Reading Excessive Replacement Card Notice | 331,063.09 | 1 | 331,063.09 | 0.0334 | 11,057.51
Subtotal |  | 372,284.85 | 1.06 | 392,895.73 | 0.058 | 22,739.75
Grand Total |  | 372,337.85 | 2.11 | 785,791.46 | 0.0456 | 35,862.47
* Note: The 20,610.88 Individuals/Households SNAP participants are the same I/H accounted for in the 41,221.76 and therefore not double counted.

Tameka Owens,
Assistant Administrator, Food and Nutrition Service.

[FR Doc. 2022-18212 Filed 8-23-22; 8:45 am]

BILLING CODE 3410-30-P